DEPARTMENT OF AGRICULTURE

Commodity Credit Corporation

Request for Reinstatement and Revision of a Previously Approved Information Collection

AGENCY: Commodity Credit Corporation, USDA.

ACTION: Notice and request for comments.

SUMMARY: In accordance with the Paperwork Reduction Act of 1995, this notice announces the Commodity Credit Corporation's (CCC) intention to request a reinstatement and revision of a previously approved information collection in support of the Cooperative Marketing Association Program.

DATE: Comments on this notice must be received on or before October 2, 2000, to be assured consideration.

FOR FURTHER INFORMATION CONTACT: Chris Kyer, Price Support Division, USDA, FSA, 1400 Independence Avenue, S.W., STOP 0512, Washington, DC 20250-0512, telephone (202) 720-7935: e-mail chris_kyer@wdc.fsa.usda.gov.

SUPPLEMENTARY INFORMATION: Title: 7 CFR Part 1425, Cooperative Marketing Association Regulations

OMB Control Number: 0560-0040

Type of Request: Reinstatement and revision of a previously approved information collection.

Abstract: This information is needed to administer the CCC's Cooperative Marketing Association Program. The information will be gathered from marketing cooperatives desiring to become Cooperative Marketing Associations (CMA) under 7 CFR 1425. The information will be used to determine whether applicants are eligible to become approved CMA's for CCC and whether approved CMA's can continue approved CMA status.

Estimate of Burden: Public reporting burden for this collection of information is estimated to average 1.38 hours per response.

Respondents: Cooperative Marketing Associations.

Estimated Number of Respondents: 41.

Estimated Number of Responses per Respondent: 100.

Estimated Total Annual Burden: 5,662 hours.

Proposed topics for comments are: (a) Whether the collection of information is necessary for the proper performance of the functions of the agency, including whether the information will have practical utility; (b) the accuracy of the agency's estimate of burden including the validity of the methodology and assumptions used; (c) ways to enhance the quality, utility, and clarity of the information to be collected; or (d) ways to minimize the burden of the collection of information on those who are to respond, including through the use of appropriate automated, electronic, mechanical or other technological collection techniques or other forms of information technology.

Comments should be sent to the Desk Officer for Agriculture, Office of Information and Regulatory Affairs, Office of Management and Budget, Washington, D.C. 20503 and to Chris Kyer, USDA-Farm Service Agency-Price Support Division, 1400 Independence Avenue, S.W., STOP 0512, Washington, D.C. 20250-0512; telephone (202) 720-7935 or e-mail chris_kyer@wdc.fsa.usda.gov. Copies of the information collection may be obtained from Chris Kyer at the above address.

All responses to this notice will be summarized and included in the request for OMB approval. All comments will also become a matter of public record.

Signed at Washington, DC, on July 25, 2000.
Keith Kelly,
Executive Vice President, Commodity Credit Corporation.

[FR Doc. 00-19450 Filed 8-1-00; 8:45 am]

BILLING CODE 3410-05-P